RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of information collection: Supplemental Information on Accident and Insurance; OMB 3220-0036.

Under section 12(o) of the Railroad Unemployment Insurance Act (RUIA), the Railroad Retirement Board is entitled to reimbursement of the sickness benefits paid to a railroad employee if the employee receives a sum or damages for the same infirmity for which the benefits are paid. Section 2(f) of the RUIA requires employers to reimburse the RRB for days in which salary, wages, pay for time lost or other remuneration is later determined to be payable. Reimbursements under section 2(f) generally result from the award of pay for time lost or the payment of guaranteed wages. The RUIA prescribes that the amount of benefits paid be deducted and held by the employer in a special fund for reimbursement to the RRB.

The RRB currently utilizes Form(s) SI-1c, (Supplemental Information on Accident and Insurance), SI-5 (Report of Payments to Employee Claiming Sickness Benefits Under the RUIA), ID-3s (Request for Lien Information), ID-3s-1, (Lien Information Under Section 12(o) of the RUIA), ID-3u (Request for Section 2(f) Information), ID-30k (Form Letter Asking Claimant for Additional Information on Injury or Illness), and ID-30k-1 (Request for Supplemental Information on Injury or Illness-3rd Party), to obtain the necessary information from claimants and railroad employers. The RRB proposes a minor change to Form ID-3s to add an “information only”, column. Completion is required to obtain benefits. One response is requested of each respondent.

Estimate of Annual Respondent Burden
[The estimated annual respondent burden for this collection is as follows]
Form #(s) | Annual responses | Time (min) | Burden (hrs)
SI-1c | 1,000 | 5 | 93
SI-5 | 2,500 | 5 | 208
ID-3s | 18,500 | 3 | 925
ID-3s.1 | 500 | 3 | 25
ID-3u | 1,500 | 3 | 75
ID-30k | 2,000 | 5 | 208
ID-30k.1 | 2,500 | 5 | 167
Total | 28,500 |  | 1,691

Additional Information or Comments: To request more information or to obtain a copy of the information collection justification, forms, and/or supporting material, please call the RRB Clearance Officer at (312) 751-3363 or Charles.Mierzwa@RRB.gov. Comments regarding the information collection should be addressed to Ronald J. Hodapp, Railroad Retirement Board, 844 N. Rush Street, Chicago, Illinois 60611-2092 or Ronald.Hodapp@RRB.gov. Written comments should be received within 60 days of this notice.

Charles Mierzwa,
Clearance Officer.

[FR Doc. 05-313 Filed 1-6-05; 8:45 am]

BILLING CODE 7905-01-U